DEPARTMENT OF THE INTERIOR

Bureau of Indian Affairs

[245A2100DD/AAKC001030/A0A501010.999900]

Tribal Tourism Grant Program; Solicitation of Proposals

AGENCY: Bureau of Indian Affairs, Interior.

ACTION: Notice.

SUMMARY: Through this notice, the Office of the Assistant Secretary—Indian Affairs, through the Office of Indian Economic Development (OIED), announces a forthcoming FY 2024 Tribal Tourism Grant Program (TTGP) Notice of Funding Opportunity (NOFO) for Tribal tourism projects.

DATES: Proposals must be submitted to no later than 5 p.m. eastern time by the deadline indicated in the NOFO and posting on Grants.gov.

ADDRESSES: Proposals must be submitted to https://www.Grants.gov.

FOR FURTHER INFORMATION CONTACT: Mr. Dennis Wilson, Grant Management Specialist, Office of Indian Economic Development, telephone (505) 917-3235; email: dennis.wilson@bia.gov. If you have questions regarding the application process, please contact Ms. Jo Ann Metcalfe, Grant Officer, telephone (410) 703-3390; email: jo.metcalfe@bia.gov. Individuals in the United States who are deaf, deafblind, hard of hearing, or have a speech disability may dial 711 (TTY, TDD, or TeleBraille) to access telecommunications relay services. Additional Program information can be found at: https://www.bia.gov/service/grants/ttgp.

SUPPLEMENTARY INFORMATION: This Office of Indian Economic Development (OIED) announcement for the forthcoming FY 2024 Tribal Tourism Grant Program (TTGP) Notice of Funding Opportunity (NOFO) provides interested applicants time to prepare their applications prior to the opening of the application period. The OIED expects the official NOFO solicitation to run for approximately 90 days on Grants.gov to receive applications. Additional information for the FY 2024 TTGP NOFO, as well as a link to the final NOFO posting on Grants.gov, will be available on OIED's website at the following URL: https://www.bia.gov/service/grants/ttgp. Eligible applicants include:

• Native American Tribal Governments (federally recognized);

• Native American Tribal Organizations (other than federally recognized); and

• Indian Tribes and Tribal Organizations, as defined in section 4 of the Indian Self-Determination and Education Assistance Act (ISDEAA) (25 U.S.C. 5304), including Tribal Consortia.

The FY 2024 TTGP cohort anticipates awarding $1.4 million in total funding. The OIED estimates awarding 10 to 15 grants, ranging in value from $75,000 to $150,000 in total funding for a 24-month period of performance. The FY 2024 TTGP is to fund implementation projects for tribal tourism which will be achieved within the period of performance. The forthcoming NOFO will provide the structure by which the applications will be reviewed and evaluated as they implement their tourism project.

While the OIED will not accept applications until the open solicitation period, interested applicants may submit questions to the grant program contacts. OIED will not fund an implementation project that has comparable activities previously carried out under other Federal assistance programs or has construction or construction related components. Applicants are encouraged to conduct the required registration activities for the System for Award Management (SAM), Unique Entity Identifier (UEI), the Automated Standard Application for Payment (ASAP), as well as acquire Tribal authorizations.

The required method of submitting proposals during the open solicitation period is through Grants.gov. For additional information on how to apply, see the grant instructions available at: https://apply07.grants.gov/help/html/help/Applicants/HowToApplyForGrants.htm.

Bryan Newland,
Assistant Secretary—Indian Affairs.

[FR Doc. 2024-16904 Filed 7-31-24; 8:45 am]

BILLING CODE 4337-15-P